DEPARTMENT OF TRANSPORTATION

Federal Aviation Administration

[Docket No. FAA-2022-0187]

Agency Information Collection Activities: Requests for Comments; Clearance of Renewed Approval of Information Collection: General Operating and Flight Rules FAR 91 and FAR 107

AGENCY: Federal Aviation Administration (FAA), DOT.

ACTION: Notice and request for comments.

SUMMARY: In accordance with the Paperwork Reduction Act of 1995, FAA invites public comments about our intention to request the Office of Management and Budget (OMB) approval to renew an information collection. The collection involves the submission of an application to obtain a Letter of Deviation Authority to permit flight instruction for compensation or hire aboard experimental category aircraft under 14 CFR 91.319. The information to be collected will be used to determine whether such flight instruction can be conducted safely.

DATES: Written comments should be submitted by April 15, 2022.

ADDRESSES: Please send written comments:

By Electronic Docket: www.regulations.gov (Enter docket number into search field).

By mail: Dwayne C. Morris, 800 Independence Ave. SW, Washington, DC 20591.

By email: chris.morris@faa.gov.

FOR FURTHER INFORMATION CONTACT: Jabari Raphael by email at: Jabari.Raphael@faa.gov; phone: 202-267-1088.

SUPPLEMENTARY INFORMATION:

Public Comments Invited: You are asked to comment on any aspect of this information collection, including (a) whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0005.

Title: General Operating and Flight Rules FAR 91 and FAR 107.

Form Numbers: N/A.

Type of Review: Renewal.

Background: In 2004, the FAA published a final rule requiring operators of experimental aircraft to apply for a Letter of Deviation Authority (LODA) to conduct operations for compensation or hire under 14 CFR 19.319. See 69 FR 44771 (July 27, 2004). When publishing the 2004 final rule, the FAA inadvertently omitted its submission to the OMB detailing the information collection burden under the Paperwork Reduction Act (PRA). See 69 FR at 44858 (explaining estimated PRA burden and OMB compliance requirements). As a result of this omission, the existing OMB collection does not account for the PRA burden of LODAs issued to operators under § 91.319.

In the 2004 final rule, the FAA also required that, beginning January 31, 2010, all experimental light sport aircraft (ELSA) operators would similarly need to apply for a LODA to conduct operations for compensation or hire. 69 FR at 44853 (explaining LODA requirements for ELSA operators). This additional LODA requirement—published in the 2004 final rule with an effective date in 2010—was also inadvertently not accounted for in the OMB's information collection. As a result of these inadvertent omissions to OMB, the FAA submits this Notice for Public Comment to ensure compliance with the PRA.

Importantly, the FAA has already requested and received public comment on the anticipated PRA burden for obtaining a LODA for experimental and ELSA aircraft operators. See 69 FR at 44858 (adjudicating comments from public regarding PRA burden). Thus, the FAA notes that it considered comments from interested members of the public when finalizing the LODA requirements under § 91.319. In other words, the FAA submits this Notice merely to ensure technical compliance with the OMB's PRA requirements, as a matter of diligence in meeting these requirements and ensuring accuracy in recordkeeping procedures. Therefore, the FAA does not anticipate any substantive impact from submission of this Notice to ensure technical compliance.

Respondents: 355 certificated flight instructors. There are approximately 177 active LODA holders for operations under 14 CFR 91.319, and the FAA anticipates approximately 170 new applications per year.

Frequency: As needed. The duration of a LODA issued under § 91.319 is four years.

Estimated Average Burden per Response: 15 hours.

Estimated Total Annual Burden: 2,250 hours per year.

Issued in Washington, DC, on February 8, 2022.
Dwayne C. Morris,
Project Manager, Flight Standards Service, General Aviation and Commercial Division.

[FR Doc. 2022-03017 Filed 2-11-22; 8:45 am]

BILLING CODE 4910-13-P